DEPARTMENT OF LABOR

Employment and Training Administration

[TA-W-52,569]

Hasler, Inc., Shelton, Connecticut; Notice of Termination of Investigation

Pursuant to section 221 of the Trade Act of 1974, an investigation was initiated on August 15, 2003 in response to a worker petition which was filed on behalf of workers at Hasler, Inc., Shelton, Connecticut (TA-W-52,569).

The petitioner has requested that the petition be withdrawn. Consequently, further investigation in this case would serve no purpose, and the investigation has been terminated.

Signed in Washington, DC this 10th day of October 2003.
Richard Church,
Certifying Officer, Division of Trade Adjustment Assistance.

[FR Doc. 03-29117 Filed 11-20-03; 8:45 am]

BILLING CODE 4510-30-P